FEDERAL DEPOSIT INSURANCE CORPORATION

[OMB No. 3064-0083; -0182; -0198]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0083; -0182 and -0198).

DATES: Comments must be submitted on or before December 18, 2023.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping and Disclosure Requirements in Connection with Regulation M (Consumer Leasing).

OMB Number: 3064-0083.

Affected Public: State nonmember banks and state savings associations engaging in consumer leasing.

Burden Estimate:

Summary of Estimated Annual Burden
[OMB No. 3064-0083]
Information collection (obligation to respond) | Type of burden (frequency of response) | Number of respondents | Number of responses per respondent | Time per response (HH:MM) | Annual burden (hours)
Recordkeeping Requirements in Connection with Regulation M (Consumer Leasing), 12 CFR 1013.8 | Recordkeeping (On occasion) | 17 | 100 | 00:22.5 | 638
Third-Party Disclosure Requirements in Connection with Regulation M (Consumer Leasing), 12 CFR 1013.3 | Third-Party Disclosure (On occasion) | 17 | 100 | 00:22.5 | 638
Total Annual Burden (Hours) |  |  |  |  | 1,276
Source: FDIC.

General Description of Collection: Regulation M (12 CFR 1013), issued by the Bureau of Consumer Financial Protection, implements the consumer leasing provisions of the Truth in Lending Act. Regulation M requires lessors of personal property to provide consumers with meaningful disclosures about the costs and terms of the leases for personal property. Lessors are required to retain evidence of compliance with Regulation M for twenty-four months. There is no change in the methodology or substance of this information collection. The change in burden is due solely to the decrease in the estimated number of respondents from 19 in 2021 to 17.

2. Title: Retail Foreign Exchange Transactions.

OMB Number: 3064-0182.

Forms: None.

Affected Public: Insured state nonmember banks and state savings associations.

Burden Estimate:

Summary of Estimated Annual Burden
[OMB No. 3064-0182]
Information collection (obligation to respond) | Type of burden (frequency of response) | Number of respondents | Number of responses per respondent | Time per response (HH:MM) | Annual burden (hours)
1. Recordkeeping Requirements, 12 CFR 349.19, 12 CFR 349.21(b)(2), 12 CFR 349.25(a) (Mandatory) | Recordkeeping (Annual) | 1 | 1 | 1,332:00 | 1,332
2. Reporting Requirements, 12 CFR 349.16 (Mandatory) | Reporting (Annual) | 1 | 1 | 16:00 | 16
3. Disclosure Requirements, 12 CFR 349.22(a), 12 CFR 349.17(a)(4)(ii), 12 CFR 349.18, 12 CFR 349.25(c) and (d), 12 CFR 349.27, 12 CFR 349.28(a) and (b) (Mandatory) | Third-Party Disclosure (Annual) | 1 | 1 | 276:00 | 276
Total Annual Burden (Hours) |  |  |  |  | 1,624
Source: FDIC.

General Description of Collection: This information collection implements section 742(c)(2) of the Dodd-Frank Act (7 U.S.C. 2(c)(2)(E)) and FDIC regulations governing retail foreign exchange transactions as set forth at 12 CFR part 349, subpart B. The regulation allows banking organizations under FDIC supervision to engage in off-exchange transactions in foreign currency with retail customers provided they comply with various reporting, recordkeeping and third-party disclosure requirements specified in the rule. If an institution elects to conduct such transactions, compliance with the information collection is mandatory. Reporting Requirements—part 349, subpart B requires that, prior to initiating a retail foreign exchange business; a banking institution must provide the FDIC with a notice certifying that the institution has written policies and procedures, and risk measurement and management systems and controls in place to ensure that retail foreign exchange transactions are conducted in a safe and sound manner. The institution must also provide information about how it intends to manage customer due diligence, new product approvals and haircuts applied to noncash margin. Recordkeeping Requirements—part 349 subpart B requires that institutions engaging in retail foreign exchange transactions keep full, complete and systematic records of account, financial ledger, transaction, memorandum orders and post execution allocations of bunched orders. In addition, institutions are required to maintain records regarding their ratio of profitable accounts, possible violations of law, records of noncash margin and monthly statements and confirmations issued. Disclosure Requirements—The regulation requires that, before opening an account that will engage in retail foreign exchange transactions, a banking institution must obtain from each retail foreign exchange customer an acknowledgement of receipt and understanding of a written disclosure specified in the rule and of disclosures about the banking institution's fees and other charges and of its profitable accounts ratio. The institution must also provide monthly statements to each retail foreign exchange customer and must send confirmation statements following every transaction. The customer dispute resolution provisions of the regulation require certain endorsements, acknowledgements and signature language as well as the timely provision of a list of persons qualified to handle a customer's request for arbitration.

After reviewing the requirements in Subpart B and the similar ICRs currently approved by OMB for the OCC and the Federal Reserve, the FDIC has determined that subpart B imposes more recordkeeping requirements than those listed in the 2021 ICR. While the 2021 ICR listed 12 CFR 349.19 as the only recordkeeping requirement in Subpart B,¹ the FDIC notes that the requirement in 12 CFR 349.21(b)(2) ² also meets the definition of a recordkeeping requirement, as does the requirement in 12 CFR 349.25(a).³ The OCC and the Federal Reserve each listed requirements that are analogous to those in 12 CFR 349.21(b)(2) and 12 CFR 349.25(a) as recordkeeping requirements in their similar ICRs,⁴ in addition to recordkeeping requirements that are analogous to those in 12 CFR 349.19.⁵ The FDIC is revising its information collection to include this burden.

¹ See footnote 7.

² 12 CFR 349.21(b)(2) requires FDIC-supervised institutions that are engaged in, or that offer to engage in, retail foreign exchange transactions to establish written policies and procedures that include: Haircuts for noncash margin collected pursuant to 12 CFR 349.21 (12 CFR 349.21(b)(2)(i)), and annual evaluation and, if appropriate, modification of the haircuts (12 CFR 349.21(b)(2)(ii)).

³ 12 CFR 349.25(a)(1) requires FDIC-supervised institutions that are engaged in retail foreign exchange transactions to establish and implement internal policies, procedures, and controls designed to ensure that orders placed for retail foreign exchange transactions by retail foreign exchange customers are given priority over orders placed for retail foreign exchange transactions for a proprietary account of the FDIC-supervised institution (12 CFR 349.25(a)(1)(i)), or an account in which a related person has an interest (12 CFR 349.25(a)(1)(ii), (iii), and (iv)). 12 CFR 349.14 defines “related person” as (1). Any general partner, officer, director, or owner of ten percent or more of the capital stock of the FDIC-supervised insured depository institution; (2). An associated person or employee of the retail foreign exchange counterparty, if the retail foreign exchange counterparty is not an FDIC-supervised insured depository institution; (3). An institution-affiliated party, as that term is defined in 12 U.S.C. 1813(u)(1), (2), or (3), or employee of the retail foreign exchange counterparty, if the retail foreign exchange counterparty is not an FDIC-supervised insured depository institution, or; (4). And relative or spouse of any of the foregoing persons, or any relative of such spouse, who shares the same home as any of the foregoing persons. 12 CFR 349.25(a)(2) requires FDIC-supervised institutions that are engaged in retail foreign exchange transactions to establish and implement internal policies, procedures, and controls designed to prevent FDIC-supervised insured depository institution related persons from placing orders, directly or indirectly, with another person in a manner designed to circumvent the provisions of 12 CFR 349.25(a)(1). 12 CFR 349.25(a)(3) requires FDIC-supervised institutions that are engaged in retail foreign exchange transactions to establish and implement internal policies, procedures, and controls designed to fairly and objectively establish settlement prices for retail foreign exchange transactions.

⁴ For the Federal Reserve, these requirements include those in 12 CFR 240.9(b)(2) and 12 CFR 240.13(a). For the OCC, these requirements include those in 12 CFR 48.13 and 12 CFR 48.9.

⁵ These requirements include the Federal Reserve's regulations at 12 CFR 240.7 and the OCC's regulations at 12 CFR 48.7.

3. Title: Generic Information Collection for Qualitative Research.

OMB Number: 3064-0198.

Affected Public: General public including FDIC insured depository institutions.

Burden Estimate:

Summary of Estimated Annual Burden
[OMB No. 3064-0198]
Information collection (obligation to respond) | Type of burden (frequency of response) | Number of respondents | Number of responses per respondent | Time per response (HH:MM) | Annual burden (hours)
1. Generic Information Collection for Qualitative Research, (Voluntary) | Reporting (Once) | 10,000 | 1 | 01:00 | 10,000
Total Annual Burden (Hours) |  |  |  |  | 10,000
Source: FDIC.

General Description of Collection: The FDIC is requesting renewal of this approved collection to use occasional qualitative surveys to gather information from the public to inform qualitative research. While the subject and nature of the surveys to be deployed under this information collection are yet to be determined, based on prior experience it is expected that the number or respondents will range from a few to, at times, several thousands, but, in general, these surveys are expected to involve an average of 500 respondents. Likewise, the time to respond to the surveys can range from a few minutes to several hours, but, it is expected that the average time to respond to a survey is approximately one hour. These surveys are completely voluntary in nature. FDIC estimates that approximately 20 such surveys will be conducted in any given year. Currently, the FDIC has a variety of methods to collect quantitative information from consumers and institutions (e.g., Call Reports, FDIC National Survey of Unbanked and Underbanked Households, etc.). Qualitative data would provide complementary information on insights, opinions, and perceptions that will inform how the FDIC approaches its mission to safeguard financial stability of the banking system and promote consumer protection and economic inclusion. This clearance would allow the FDIC to engage with consumers and other relevant stakeholders through qualitative research methods such as focus groups, in-depth interviews, cognitive testing, and/or qualitative virtual methods. The purpose of the surveys is, in general terms, to obtain anecdotal information about regulatory burden, problems or successes in the bank supervisory process (including both safety-and-soundness and consumer related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The collection is noncontroversial and does not raise issues of concern to other Federal agencies; with the exception of information needed to provide remuneration for participants of focus groups and cognitive laboratory studies, personally identifiable information (PII) is collected only to the extent necessary and is not retained. Participation in this information collection will be voluntary and conducted in-person, by phone, or using other methods, such as virtual technology. The types of collections that this generic clearance covers include, but are not limited to: Small discussion groups; focus groups of consumers, financial industry professionals, or other stakeholders; cognitive laboratory studies, such as those used to refine questions or assess usability of a website; qualitative customer satisfaction surveys (e.g., post- transaction surveys; opt-out web surveys); and in-person observation testing (e.g., website or software usability tests).

There is no change in the substance or methodology of this information collection.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on October 13, 2023.
James P. Sheesley,
Assistant Executive Secretary.

[FR Doc. 2023-23054 Filed 10-18-23; 8:45 am]

BILLING CODE 6714-01-P